DEPARTMENT OF TRANSPORTATION

Office of the Secretary

Aviation Proceedings, Agreements Filed the Week Ending February 8, 2008

The following Agreements were filed with the Department of Transportation under Sections 412 and 414 of the Federal Aviation Act, as amended (49 U.S.C. 1382 and 1384) and procedures governing proceedings to enforce these provisions. Answers may be filed within 21 days after the filing of the application.

Docket Number: DOT-OST-2008-0052.

Date Filed: February 5, 2008.

Parties: Members of the International Air Transport Association.

Subject: PTC COMP Mail Vote 558, Resolution 011a, Mileage Manual Non TC Member/Non IATA Carrier Sectors (Memo 1446). Intended effective date: 15 March 2008.

Docket Number: DOT-OST-2008-0057.

Date Filed: February 8, 2008.

Parties: Members of the International Air Transport Association.

Subject: Mail Vote 559—Resolution 010y TC31 North & Central Pacific TC3 (except Japan)—North America, Caribbean Special Passenger Amending Resolution from Hong Kong SAR to USA, Canada (Memo 0435). Intended effective date: 21 February 2008.

Renee V. Wright,
Program Manager, Docket Operations, Federal Register Liaison.

[FR Doc. E8-12834 Filed 6-6-08; 8:45 am]

BILLING CODE 4910-9X-P